DEPARTMENT OF LABOR

Employment and Training Administration

[TA-W-54,375]

International Paper Company, Atlantic Region Forest Division, Georgetown, South Carolina; Notice of Negative Determination Regarding Application for Reconsideration

By application of June 3, 2004, a petitioner requested administrative reconsideration of the Department's negative determination regarding eligibility for workers and former workers of the subject firm to apply for Trade Adjustment Assistance (TAA). The denial notice applicable to workers of International Paper Company, Atlantic Region Forest Division, Georgetown, South Carolina was signed on May 12, 2004, and published in the Federal Register on June 2, 2004 (69 FR 31135).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition was filed on behalf of workers at International Paper Company, Atlantic Region Forest Division, Georgetown, South Carolina engaged in administrative and staff support functions associated with the management of forest lands. The petition was denied because the petitioning workers did not produce an article within the meaning of Section 222 of the Act.

In the request for reconsideration a petitioner contends that the Department erred in its interpretation of work performed at the subject facility and alleges that the petitioning workers performed administrative and procurement activities for several mills in North Carolina and Georgia, which were impacted by the Canadian and European imports.

A company official was contacted in regards to these allegations. It was revealed upon further investigation that the petitioning workers were engaged in land sales, environmental activities and GIS development for the Forest Resources Division of the International Paper Company. Furthermore, the nature of work that the workers performed had no direct relationship with the production within the Forest Resources Division, nor did they support production at any of the International Paper Company mills. The official further stated that the establishment of a new business strategy to lower operating cost through the elimination, consolidation and reorganization of a number of managerial and administrative job functions within the Forest Resources Division caused the workers separations at the subject firm during the relevant time period.

The petitioner further alleges that because workers of the International Paper, Augusta, Maine were granted certification in December of 2003, workers of the subject firm should be also eligible for TAA.

A review of the case concerning International Paper, Augusta, Maine (TA-W-53,534) revealed that the displaced workers of the Augusta facility were engaged in activities directly related to the production of light-weight coated paper for the publishing industry insofar as they procured logs from company woodlands and provided them to an affiliated TAA certified International Paper, Bucksport, Maine (TA-W-53,533).

The current investigation did not establish any relationship between the production facilities and dislocated workers of the International Paper Company, Atlantic Region Forest Division, Georgetown, South Carolina.

Conclusion

After review of the application and investigative findings, I conclude that there has been no error or misinterpretation of the law or of the facts which would justify reconsideration of the Department of Labor's prior decision. Accordingly, the application is denied.

Signed at Washington, DC, this 13th day of July, 2004.
Elliott S. Kushner,
Certifying Officer, Division of Trade Adjustment Assistance.

[FR Doc. 04-16771 Filed 7-22-04; 8:45 am]

BILLING CODE 4510-30-P